U.S.-CHINA ECONOMIC AND SECURITY REVIEW COMMISSION

Notice of Open Public Hearing

AGENCY: U.S.-China Economic and Security Review Commission.

ACTION: Notice of open public hearing—January 21, 2016, Washington, DC.

SUMMARY: Notice is hereby given of the following hearing of the U.S.-China Economic and Security Review Commission.

Name: Dennis Shea, Chairman of the U.S.-China Economic and Security Review Commission. The Commission is mandated by Congress to investigate, assess, and report to Congress annually on “the national security implications of the economic relationship between the United States and the People's Republic of China.” Pursuant to this mandate, the Commission will hold a public hearing in Washington, DC on Thursday, January 21, 2016, on “Developments in China's Military Force Projection and Expeditionary Capabilities.”

Background: This is the first public hearing the Commission will hold during its 2016 report cycle to collect input from academic and industry experts concerning the national security implications of China's military modernization efforts for the United States. The hearing will focus on key developments in the security sphere concerning China's interest in its military pursuing joint expeditionary and force projection capabilities. It will seek to understand the implications of China's interest in developing expeditionary and force projection capabilities for United States, U.S. allies, and partners in the Asia Pacific. The hearing will be co-chaired by Commissioners Jeffrey L. Fiedler and Larry M. Wortzel. Any interested party may file a written statement by January 21, 2016, by mailing to the contact below. A portion of each panel will include a question and answer period between the Commissioners and the witnesses.

Location, Date and Time: Room: SD-106, Dirksen Senate Office Building. Thursday, January 21, 2016, start time is 9:00 am. A detailed agenda for the hearing will be posted to the Commission's Web site at www.uscc.gov. Also, please check our Web site for possible changes to the hearing schedule. Reservations are not required to attend the hearing.

FOR FURTHER INFORMATION CONTACT: Any member of the public seeking further information concerning the hearing should contact Anthony DeMarino, 444 North Capitol Street NW., Suite 602, Washington, DC 20001; phone: 202-624-1496, or via email at ademarino@uscc.gov. Reservations are not required to attend the hearing.

Authority: Congress created the U.S.-China Economic and Security Review Commission in 2000 in the National Defense Authorization Act (Pub. L. 106-398), as amended by Division P of the Consolidated Appropriations Resolution, 2003 (Pub. L. 108-7), as amended by Public Law 109-108 (November 22, 2005), as amended by Public Law 113-291 (December 19, 2014).

Dated: January 7, 2016.
Michael Danis,
Executive Director, U.S.-China Economic and Security Review Commission.

[FR Doc. 2016-00344 Filed 1-11-16; 8:45 am]

BILLING CODE 1137-00-P